SECURITIES AND EXCHANGE COMMISSION

[Release No. PA-37; File No. S7-17-06]

Privacy Act of 1974: Establishment of a New System of Records: Photographic Files (SEC-54)

AGENCY: Securities and Exchange Commission.

ACTION: Notice of the establishment of a new system of records.

SUMMARY: In accordance with the requirements of the Privacy Act of 1974, as amended, 5 U.S.C. 552a, the Securities and Exchange Commission gives notice of a proposed Privacy Act system of records: “Photographic Files (SEC-54).” This system of records will contain a collection of photographic materials, in print and electronic format, related to Commission staff and events.

DATES: The new system will become effective December 11, 2006 unless further notice is given. The Commission will publish a new notice if the effective date is delayed to review comments or if changes are made based on comments received. To be assured of consideration, comments should be received on or before November 30, 2006.

ADDRESSES: Comments may be submitted by any of the following methods:

Electronic Comments

• Use the Commission's Internet comment form (http://www.sec.gov/rules/other.shtml); or

• Send an e-mail to rule-comments@sec.gov. Please include File Number S7-17-06 on the subject line.

Paper Comments

• Send paper comments in triplicate to Nancy M. Morris, Secretary, Securities and Exchange Commission, 100 F Street, NE., Washington, DC 20549-1090.

All submissions should refer to File Number S7-17-06. This file number should be included on the subject line if e-mail is used. To help us process and review your comments more efficiently, please use only one method. The Commission will post all comments on the Commission's Internet Web site (http://www.sec.gov/rules/other.shtml) Comments are also available for public inspection and copying in the Commission's Public Reference Room, 100 F Street, NE., Room 1580, Washington, DC 20549. All comments received will be posted without change; we do not edit personal identifying information from submissions. You should submit only information that you wish to make available publicly.

FOR FURTHER INFORMATION CONTACT: Barbara A. Stance, Chief Privacy Officer, Securities and Exchange Commission, Operations Center, 6432 General Green Way, Alexandria, VA 22312-2413, (202) 551-7209.

SUPPLEMENTARY INFORMATION: The Commission gives notice of the proposed establishment of a new system of records entitled “Photographic Files (SEC-54).” The new system of records will contain photographic materials, in print and electronic format, related to Commission staff and events. Many of the physical photographic materials are old and fragile. Repeated handling of these materials causes additional damage. Digitizing this collection will serve to preserve the materials and make them accessible. The records may also be indexed and therefore retrievable by such data elements as date, event, and personal name.

The Commission has submitted a report of the new system of records to the Senate Committee on Homeland Security and Governmental Affairs, the House Committee on Government Reform, and the Office of Management and Budget, pursuant to 5 U.S.C. 552a(r) of the Privacy Act of 1974, as amended, and Appendix I to OMB Circular A-130, “Federal Agency Responsibilities for Maintaining Records About Individuals,” as amended on February 20, 1996 (61 FR 6435).

Accordingly, the Commission is adding a new system of records to read as follows:

SEC-54

SYSTEM NAME

Photographic Files.

SYSTEM LOCATION:

Securities and Exchange Commission, 100 F Street, NE., Washington, DC 20549.

CATEGORIES OF INDIVIDUALS COVERED BY THE SYSTEM:

Commission staff, visitors from other Federal agencies and members of the public.

CATEGORIES OF RECORDS IN THE SYSTEM:

The records in the system include photographic prints, negatives, and slides. Records may also include digital photographs, as well as digitized images of photographic prints, negatives, and slides. Indexing data, including such data elements as date, event, and personal name, will be created for these materials.

AUTHORITY FOR MAINTENANCE OF THE SYSTEM:

5 U.S.C. 301, Departmental Regulations.

PURPOSE(S):

Photographic files are provided to the Securities and Exchange Commission library (“Library”) on an ongoing basis for inclusion in the Library's collection. Many of the photographic materials in the collection are old and fragile. Repeated handling of these materials causes further damage. Digitizing this collection will support the preservation of these materials, and indexing the collection by such information as date, event, and personal name, will make these materials accessible to Commission staff and the public.

ROUTINE USES OF RECORDS MAINTAINED IN THE SYSTEM, INCLUDING CATEGORIES OF USERS AND THE PURPOSE OF SUCH USES:

These records may be disclosed to the public as follows:

(1) For reproduction by Commission staff organizing such events as awards ceremonies, farewell ceremonies and receptions, Commission anniversary ceremonies and receptions, and Commission training and educational programs;

(2) For distribution and presentation for news, public relations and community affairs purposes; and

(3) In support of research activities conducted by staff of the Commission and other Federal agencies, as well as members of the public.

POLICIES AND PRACTICES FOR STORING, RETRIEVING, ACCESSING, RETAINING, AND DISPOSING OF RECORDS IN THE SYSTEM:

STORAGE:

The photographic prints, negatives, and slides are stored in the Commission's Library in a locked file room. These photographic materials will be transferred to the Office of Filings and Information Services after they have been digitized. Digital images, along with indexing data, will be stored on secure Commission servers and made available on the Commission's intranets and public Web site, as appropriate.

RETRIEVABILITY:

Records may be retrieved by such information as date of event, name of event, and/or name(s) of individual(s), where such information is available.

SAFEGUARDS:

Physical photographic materials are stored in a locked file room in the Commission's Library. The Library is in a secured area. Digital records and indexing data are stored on secure servers. Server access is limited to authorized personnel whose duties require such access.

RETENTION AND DISPOSAL:

Physical and electronic photographic file records are permanent. Records will be retired to Washington National Records Center.

SYSTEM MANAGER(S) AND ADDRESS:

Cynthia Plisch, Assistant Director, Reference and Information Services, Securities and Exchange Commission, Library, 100 F Street, NE., Room 1550, Washington, DC 20549-1550, 202-551-5450.

NOTIFICATION PROCEDURE:

Individuals seeking to determine whether information about themselves is contained in this system should address written inquiries to: Privacy Act Officer, Securities and Exchange Commission, Operations Center, 6432 General Green Way, Mail Stop 0-7, Alexandria, VA 22312-2413.

RECORD ACCESS PROCEDURES:

Persons wishing to obtain information on the procedures for gaining access to, or contesting the contents of, this record may contact: Privacy Act Officer, Securities and Exchange Commission, Operations Center, 6432 General Green Way, Mail Stop 0-7, Alexandria, VA 22312-2413.

CONTESTING RECORDS PROCEDURES:

See record access procedures above.

RECORD SOURCE CATEGORIES:

Photographic files are provided to the Library for inclusion in the Library's collection on an ongoing basis. Donors include Commission employees who have photographed an event or individuals donating their photographic collections to the Library for the purposes of preservation and access. Indexing information is derived from information recorded on photographs, or from Commission staff or other individuals who have knowledge of the event and individuals photographed.

EXEMPTIONS CLAIMED FOR THE SYSTEM:

None.

Dated: October 24, 2006.
By the Commission.
Nancy M. Morris,
Secretary.

[FR Doc. E6-18234 Filed 10-30-06; 8:45 am]

BILLING CODE 8011-01-P